ENVIRONMENTAL PROTECTION AGENCY

[EPA-HQ-OPP-2010-0723; FRL-9426-6]

Agency Information Collection Activities; Submission to OMB for Review and Approval; Comment Request; Certification of Pesticide Applicators

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval: Certification of Pesticide Applicators; EPA ICR No. 0155.10, OMB Control No. 2070-0029. This is a request to renew an existing approved collection. The ICR, which is abstracted below, describes the nature of the information collection and its estimated burden and cost.

DATES: Additional comments may be submitted on or before July 29, 2011.

ADDRESSES: Submit your comments, referencing Docket ID No. EPA-HQ-OPP-2010-0723, to (1) EPA online using http://www.regulations.gov (our preferred method), or by mail to: EPA Docket Center, Environmental Protection Agency, Pesticide Public Regulatory Docket at Potomac Yard, 7502P, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Niva Kramek, Field and External Affairs Division, Office of Pesticide Programs, 7506P, Environmental Protection Agency, 1200 Pennsylvania Ave., NW., Washington, DC 20460; telephone number: 703-605-1193; fax number: 703-305-5884; e-mail address: kramek.niva@epa.gov.

SUPPLEMENTARY INFORMATION: EPA has submitted the following ICR to OMB for review and approval according to the Paperwork Reduction Act (PRA)(44 U.S.C. 3501 et seq.), and the procedures prescribed in 5 CFR 1320.12. On October 27, 2010 (75 FR 66085), EPA sought comments on this renewal ICR pursuant to 5 CFR 1320.8(d). EPA received no comments. Any additional comments on this ICR should be submitted to EPA and OMB within 30 days of this notice.

EPA has established a public docket for this ICR under Docket ID No. EPA-HQ-OPP-2010-0723, which is available for online viewing at http//:www.regulations.gov, or in person viewing at the Pesticide Public Regulatory Docket, One Potomac Yard, 2777 S. Crystal Drive, Room S-4400, Arlington, VA 22202. This docket facility is open from 8:30 a.m. to 4 p.m., Monday through Friday, excluding legal holidays. The telephone number for this docket is 703-305-5805.

Use EPA's electronic docket and comment system at http//:www.regulations.gov, to submit or view public comments, to access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Certification of Pesticide Applicators.

ICR numbers: EPA ICR No. 0155.10, OMB Control No. 2070-0029.

ICR Status: The current OMB approval for this ICR is scheduled to expire on July 31, 2011. Under OMB regulations at 5 CFR 1320.12(b)(2), the Agency may continue to conduct or sponsor the collection of information while this submission is pending at OMB. This ICR is for an ongoing information collection activity. An Agency may not conduct or sponsor, and a person is not required to respond to, a collection of information, unless it displays a currently valid OMB control number. The OMB control numbers for EPA's regulations in title 40 of the CFR, after appearing in the Final Rule and in the Federal Register when approved, are listed in 40 CFR Part 9 or by other appropriate means, such as on the related collection instrument or form, if applicable.

Abstract: Under section 11 of the Federal Insecticide, Fungicide, and Rodenticide Act (FIFRA), EPA administers certification programs for pesticide applicators. FIFRA allows EPA to classify a pesticide as “restricted use” if the pesticide meets certain toxicity or risk criteria. This ICR addresses the paperwork activities performed by various EPA-authorized agencies of States and Indian tribal governments, as well as federal agencies (collectively referred to in this document as “authorized agencies”), and activities performed by individuals and firms in the course of training and certifying persons who apply restricted use pesticides.

Because of their potential to harm human health or the environment, restricted use pesticides may be purchased and applied only by a certified applicator or by a person under the direct supervision of a certified applicator. A person must meet certain standards of competency to become a certified applicator; these standards are met through completion of a certification program or test. Authorized agencies administer certified applicator programs within their jurisdictions, but each agency's certification plan must be approved by EPA before it can be implemented. In areas where no agency has been authorized, EPA may administer a certification program directly, called a Federal program.

This ICR also addresses how registrants of certain pesticide products are expected to perform specific, special paperwork activities, such as training and record-keeping, in order to comply with the terms and conditions of the pesticide registration (e.g., registrants of anthrax-related pesticide products that assert claims to inactivate Bacillus anthracis (anthrax) spores). Paperwork activities associated with the use of such products are conveyed specifically as a condition of the registration.

Burden Statement: The annual public reporting and recordkeeping burden for this collection of information is estimated to range from 0.17 hours (ten minutes) to 77.35 hours per response, with a burden on most respondents of 3.1 hours. Burden is defined in 5 CFR 1320.3(b). The following is a summary of the burden and cost information for this ICR:

Respondents/Affected Entities: As identified by their North American Industrial Classification System (NAICS) code, entities potentially affected by this ICR are: Applicators on Farms (111 Crop Production, 112 Animal Production); Commercial Services Applicators (561710 Exterminating and Pest Control Services); Administration of Certification Programs by States/Tribal Lead Agencies (924110 Environmental protection program administration and 926140 Pest control programs, agricultural, governmental); Pesticide Dealers (only for EPA-administered programs) (444220 Retail Nursery, Lawn, and Garden Supply stores, 424910 Agricultural chemicals merchant wholesalers); and Pesticide and Other Agricultural Chemical Manufacturing (32532 Individuals or entities engaged in activities related to the registration of a pesticide product).

Estimated Total Number of Respondents: 427,133.

Frequency of Response: Annual.

Estimated Total Annual Hour Burden: 1,320,669 hours.

Estimated Total Annual Cost: $42,134,484.

Changes in the Estimates: There is an increase of 10,918 hours in the total estimated respondent burden compared with that identified in the ICR currently approved by OMB. This increase reflects a program change: the expansion of the Federal certified applicator program from Navajo Country to all of Indian Country. Burden hours per respondent have not changed.

Dated: June 23, 2011.
John Moses,
Director, Collection Strategies Division.

[FR Doc. 2011-16375 Filed 6-28-11; 8:45 am]

BILLING CODE 6560-50-P